DEPARTMENT OF COMMERCE

National Oceanic and Atmospheric Administration

[I.D. 071105C]

New England Fishery Management Council; Public Meetings

AGENCY: National Marine Fisheries Service (NMFS), National Oceanic and Atmospheric Administration (NOAA), Commerce.

ACTION: Notice; committee meetings.

SUMMARY: The New England Fishery Management Council's (Council) Scallop Committee and Advisory Panel will hold meetings to consider actions affecting New England fisheries in the exclusive economic zone (EEZ).

DATES: The meetings will be held on August 2-3, 2005. See SUPPLEMENTARY INFORMATION for meeting agendas.

ADDRESSES: The meetings will be held at the Hilton Garden Inn, One Thurber Street, Warwick, RI 02886; telephone: (401) 734-9600 .

Council address: New England Fishery Management Council, 50 Water Street, Mill #2, Newburyport, MA 01950.

FOR FURTHER INFORMATION CONTACT: Paul J. Howard, Director, New England Fishery Management Council; telephone: (978) 465-0492.

SUPPLEMENTARY INFORMATION: The committee's schedule and agenda for the following two meetings are as follows:

Tuesday, August 2, 2005 - 8:30 a.m.

The Scallop Advisory Panel will develop recommendations for and/or review alternatives in Framework 18 including: Measures to address issues with Elephant Trunk Area fishing activities; A Notice Action program to adjust Elephant Trunk Area and open area allocations for 2007; Trip exchange and other measures to increase flexibility for vessels to determine where to fish, focusing on 2006; Measures to liberalize the broken trip exemption program and the trip exchange deadline; Input controls for the general category fishery; Measures to improve the research scallop set-aside program; Other Framework 18 issues as delegated by the July 19 Oversight Committee meeting.

Wednesday August 3, 2005 - 9 a.m.

The Scallop Oversight Committee will review the recommendations of the advisors and Plan Development Team to formulate and approve Framework 18 alternatives. The meeting will focus on the above listed issues as well as those carried forward from the July 19 Oversight Committee meeting.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Dated: July 12, 2005.
Alan D. Risenhoover,
Acting Director, Office of Sustainable Fisheries, National Marine Fisheries Service.

[FR Doc. E5-3794 Filed 7-15-05; 8:45 am]

BILLING CODE 3510-22-S